DEPARTMENT OF HOMELAND SECURITY

United States Fire Academy; Agency Information Collection Activities: Submission for Renewal of a Currently Approved Information Collection Request

AGENCY: DHS, Preparedness Directorate, National Fire Academy.

ACTION: Notice; 60-day notice request for comments.

SUMMARY: The Department of Homeland Security (DHS) invites the general public and other federal agencies the opportunity to comment on approved information collection request (ICR) OMB 1660-0002, General Admissions Applications and related forms. As required by the Paperwork Reduction Act of 1995, (Pub. L. 104-13, 44 U.S.C. chapter 35) as amended by the Clinger-Cohen Act (Pub. L. 104-106), DHS is soliciting comments for the approved information collection request.

DATES: Written comments should be received on or before December 26, 2006 to be assured consideration.

ADDRESSES: NFA, Attn: Clarence White, Program Analyst, NETC Management, Operations and Support Services, U.S. Fire Administration, (301) 447-1055 (this is not a toll-free number).

FOR FURTHER INFORMATION CONTACT: Attn: Clarence White, Program Analyst, NETC Management, Operations and Support Services, U.S. Fire Administration, (301) 447-1055 (this is not a toll-free number). Or write to NFA, Attn: Clarence White, Program Analyst, National Emergency Training Center, 16825 South Seton Avenue, Emmitsburg, MD 21727-8998.

SUPPLEMENTARY INFORMATION: Direct all written comments to both the Department of Homeland Security and the Office of Information and Regulatory Affairs at the above addresses. A copy of this ICR, with applicable supporting documentation, may be obtained by calling the Paperwork Reduction Act Contact listed above. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Preparedness Directorate, National Fire Academy, Office of the Chief Information Officer.

Title: General Admissions Application (Long and Short) and Stiped Forms.

OMB Number: 1660-0002.

Frequency of Response: Submitted by applicants when applying for a class.

Affected Public: Individuals in the emergency services in Federal, state, tribal, and local government, volunteer organizations, or private industry.

Estimated Number of Respondents:

FEMA Form 75-5, General Admissions Application—15,000 Responses

FEMA Form 75-5a, General Admissions Application, Short Form—60,000 Responses

FEMA Form 75-5 (automated), General Admissions Application—10,000 Responses

FEMA Form 75-5a (automated), General Admissions Application, Short Form—15,000 Responses

FEMA Form 75-3 and 75-3a, Student Stipend Agreement and Student Stipend Agreement (Amendment)—8,000 Responses

FEMA Form 95-22, National Fire Academy—Executive Fire Officer Program Application for Admission 400 Responses

Estimated Time per Respondent:

FEMA Form 75-5, General Admissions Application—9 minutes

FEMA Form 75-5a, General Admissions Application, Short Form—6 minutes

FEMA Form 75-5 (automated), General Admissions Application—8 minutes

FEMA Form 75-5a (automated), General Admissions Application, Short Form—5 minutes

FEMA Form 75-3 and 75-3a, Student Stipend Agreement and Student Stipend Agreement (Amendment)—2 minutes

FEMA Form 95-22, National Fire Academy—Executive Fire Officer Program Application for Admission—10 minutes

Estimated Burden Hours:

FEMA Form 75-5, General Admissions Application—2,250 hours

FEMA Form 75-5a, General Admissions Application, Short Form—6,000 hours

FEMA Form 75-5 (automated), General Admissions Application—1,333 hours

FEMA Form 75-5a (automated), General Admissions Application, Short Form—1,250 hours

FEMA Form 75-3 and 75-3a, Student Stipend Agreement and Student Stipend Agreement (Amendment)—267 hours

FEMA Form 95-22, National Fire Academy—Executive Fire Officer Program Application for Admission—67 hours

Total Burden Cost: This has been on-going for over 20 years

Total Burden Cost: (operating/maintaining): $2.73 per respondent, $295,955 annually.

Description: Public Law 93-498, Federal Fire Prevention and Control Act, as amended, (15 U.S.C. 2201 et seq.) established the National Fire Academy (NFA) to “advance the professional development of fire service personnel and of other persons engaged in fire prevention and control activities* * * ” and authorizes the Superintendent, NFA, to “conduct courses and programs of training and education* * * ” Public Law 93-288, Robert T. Stafford Disaster Relief and Emergency Assistance Act, (42 U.S.C. 5121-5206) authorizes the President to establish “a program of disaster preparedness that utilizes services of all appropriate agencies and includes* * *(2) training and exercises* * * ” Under the authorities of Executive Order 12127 and 12148, as amended, The Secretary of the Department of Homeland Security, Emergency Preparedness and Response Directorate, Federal Emergency Management Agency, is responsible for carrying out the mandates of the public laws mentioned above. The Secretary established the National Emergency Training Center (NETC), located in Emmitsburg, Maryland, which houses both NFA and EMI. The data collection is used to (1) determine eligibility for courses and programs offered by NFA and EMI, (2) provide a consolidated record of all FEMA training taken by a student, (3) provide a transcript which can be used by the student in requesting college credit or continuing education units for courses completed, and (4) to determine eligibility for student stipends. The Application Forms are available on line at http://www.usfa.dhs.gov/training/nfa/about/attend/nfa-abt1c.shtm.

Charlie Church,
Chief Information Officer, Preparedness Directorate.

[FR Doc. E6-17821 Filed 10-23-06; 8:45 am]

BILLING CODE 4410-10-P